DEPARTMENT OF HEALTH AND HUMAN SERVICES

Centers for Disease Control and Prevention

Board of Scientific Counselors, National Center for Injury Prevention and Control, (BSC, NCIPC)

AMENDMENT: This notice was published in the Federal Register on December 14, 2015, Volume 80, Number 239, Page 77352. The Dial-in number should read as follows to include additional lines for public participation and to provide for people with disabilities:

Teleconference Dial-In Number: 1-888-469-1243, Participant Code: 4709506

TTY Accessible link: http://www.captionedtext.com/client/event.aspx?CustomerID=1891&EventID=2812715

CDC encourages participation by persons with disabilities. Captions and participation by persons with communications challenges will be available online via Relay Conference Captioning. To view the online captions at the start time of the event, please login for captioning at: http://www.captionedtext.com/client/event.aspx?CustomerID=1891&EventID=2812715.

Contact Person For More Information: Arlene Greenspan, DrPH, M.P.H., P.T. Associate Director for Science, NCIPC, CDC, 4770 Buford Highway NE., Mailstop F-63, Atlanta, GA 30341, Telephone (770) 488-4696.

The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention.

[FR Doc. 2015-32016 Filed 12-21-15; 8:45 am]

BILLING CODE 4163-18-P